DEPARTMENT OF AGRICULTURE

Food and Nutrition Service

Agency Information Collection Activities: Proposed Collection; Comment Request—Supplemental Nutrition Assistance Program Prisoner and Death Match Requirements

AGENCY: Food and Nutrition Service (FNS), USDA.

ACTION: Notice.

SUMMARY: In accordance with the Paperwork Reduction Act of 1995, this notice invites the general public and other public agencies to comment on this proposed information collection. This is a new collection for screening SNAP applicants during the certification process using the Prisoner Verification System (PVS) and the Deceased Matching System to determine eligibility. FNS plans to merge these requirements with data collection OMB# 0584-0492, SNAP Repayment Demand and Program Disqualification, once approved by OMB.

DATES: Written comments must be received on or before November 22, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jane Duffield, Food and Nutrition Service, U.S. Department of Agriculture, 3101 Park Center Drive, Room 822, Alexandria, VA 22302. Comments may also be submitted via fax to the attention of Jane Duffield at 703-305-0928 or via e-mail to Jane.Duffield@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 822, Alexandria, Virginia 22302.

All responses to this notice will be summarized and included in the request for Office of Management and Budget approval. All comments will be a matter of public record.

FOR FURTHER INFORMATION CONTACT: Requests for additional information or copies of this information collection should be directed to Christine Daffan at 703-305-2473.

SUPPLEMENTARY INFORMATION:

Title: Supplemental Nutrition Assistance Program Prisoner and Death Match Requirements.

Form Number: None.

OMB Number: 0584-NEW.

Expiration Date: Not Yet Determined.

Type of Request: New Collection.

Abstract: The Food and Nutrition Service (FNS) published a proposed rule on December 8, 2006 at 71 FR 71075, which would revise the SNAP regulation in 7 CFR part 272 regarding prisoner verification and death matching procedures as mandated by legislation and previously implemented through agency directive.

Section 1003 of the Balanced Budget Act of 1997 (Pub. L. 105-33) amended Section 11(e) of the Food and Nutrition Act of 2008 (7 U.S.C. 2020(e)) to require States to establish systems and take periodic action to ensure that an individual who is detained in a Federal, State, or local penal, correctional, or other detention facility for more than 30 days shall not be eligible to be counted as a household member participating in SNAP. The FNS proposed rule would codify this requirement and define taking periodic action as requiring States to conduct PVS checks at application and re-certification.

This rule also proposes deceased matching requirements enacted by Public Law 105-379 on November 12, 1998. Public Law 105-379, which amended Section 11 of the Food and Nutrition Act (7 U.S.C 2020), required all State agencies to enter into a cooperative arrangement with the Social Security Administration (SSA) to obtain information on individuals who are deceased and use the information to verify and otherwise ensure that benefits are not issued to such individuals. The law went into effect on June 1, 2000. The mandated requirements were implemented by FNS directive to all SNAP State agencies on February 14, 2000. State agencies are responsible for entering into a matching agreement with SSA in order to access information on deceased individuals. FNS proposed adding a new § 272.14 to codify this requirement in regulation and included requirements for accessing the SSA death master file. These proposed requirements included independently verifying the record prior to taking adverse action, and conducting matches for deceased individuals at application and re-certification.

State agencies have been instructed through FNS directive to implement the provisions of the prisoner verification matches (Pub. L. 105-33) and death file matches (Pub. L. 105-379) as required by law in the applicable legislation, and these matches should already be in place without waiting for formal regulations. FNS believes that it is important to standardize matching procedures to provide quality services to all SNAP participants and qualified applicants while ensuring that SNAP benefits are issued only to qualified individuals and households. In doing so, FNS and State agencies contribute to the success and integrity of the Program, garnering public support and user confidence in SNAP.

Affected Public: Individual/Households, State, Local and Tribal Government. There are no recordkeeping requirements for this data collection.

Prisoner Match Reporting Burden

Estimated Number of Respondents: 53.

Estimated Total Number of Responses per Respondent: 304,814.02.

Estimated Total Annual Responses: 16,155,143.00.

Estimated Time per Response: 0.041667.

Estimated Total Annual Reporting Burden: 673,136.343.

Death Match Reporting Burden

Estimated Number of Respondents: 53.

Estimated Total Number of Responses per Respondent: 190,566.04.

Estimated Total Annual Responses: 10,100,000.00.

Estimated Time per Response: 0.041667.

Estimated Total Annual Reporting Burden: 420,836.705.

Grand Total Burden Reporting Burden: 1,093,973.048.

Dated: September 12, 2011.
Audrey Rowe,
Administrator.

[FR Doc. 2011-24411 Filed 9-22-11; 8:45 am]

BILLING CODE 3410-30-P